DEPARTMENT OF COMMERCE

National Oceanic and Atmospheric Administration

15 CFR Part 922

[Docket No. 230130-0031]

RIN 0648-AV85

National Marine Sanctuary Regulations; Delay of Effective Date

AGENCY: Office of National Marine Sanctuaries (ONMS), National Oceanic and Atmospheric Administration (NOAA), Department of Commerce (DOC).

ACTION: Final rule; delay of effective date.

SUMMARY: On January 6, 2023, NOAA published a final rule that appeared in the Federal Register and that amended the ONMS regulations. The final rule was published with a 30-day delayed effective date (February 6, 2023). This action delays the effective date of the final rule by 60 days, until April 7, 2023.

DATES: As of February 3, 2023, the effective date for the final rule published January 6, 2023, at 88 FR 953, is delayed to April 7, 2023.

FOR FURTHER INFORMATION CONTACT: Vicki Wedell, NOAA Office of National Marine Sanctuaries, (240) 533-0650, Vicki.Wedell@noaa.gov.

SUPPLEMENTARY INFORMATION: NOAA published a final rule January 6, 2023 (88 FR 953), which updated and streamlined ONMS regulations. NOAA is preparing technical corrections to the final rule. NOAA is delaying the effective date of February 6, 2023, for the final rule by 60 days, to April 7, 2023. The delay in the effective date is necessary to provide time for ONMS to publish the technical corrections in advance of the final rule taking effect.

National Marine Sanctuaries Act

The National Marine Sanctuaries Act (NMSA) authorizes the Secretary of Commerce (Secretary) to designate, manage, and protect, as a national marine sanctuary (NMS), any area of the marine environment that is of special national significance due to its conservation, recreational, ecological, historical, scientific, cultural, archeological, educational, or esthetic qualities (16 U.S.C. 1431 et seq.). NMSA provides the legal basis and serves as the authority under which NOAA issues this action.

Nicole R. LeBoeuf,
Assistant Administrator for Ocean Services and Coastal Zone Management, National Ocean Service, National Oceanic and Atmospheric Administration.

[FR Doc. 2023-02268 Filed 2-2-23; 8:45 am]

BILLING CODE 3510-NK-P